NATIONAL SCIENCE FOUNDATION

Notice of Permit Applications Received Under the Antarctic Conservation Act of 1978 (Pub L. 95-541)

AGENCY: National Science Foundation.

ACTION: Notice of Permit Applications Received under the Antarctic Conservation Act of 1978, Public Law 95-541.

SUMMARY: The National Science Foundation (NSF) is required to publish notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by August 1, 2008. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas requiring special protection. The regulations establish such a permit system to designate Antarctic Specially Protected Areas.

The applications received are as follows:

1. Applicant: Kristin M. O'Brien, Institute of Arctic Biology, University of Alaska, Fairbanks, P.O. Box 757000, Fairbanks, AK 99775-7000.

Permit Application No. 2009-011.

Activity for Which Permit Is Requested

Take and Enter Antarctic Specially Protected Areas. The applicant plans to conduct fishing of benthic trawls and fish traps/pots to study the physiology and biochemistry of Antarctic fishes, with particular emphasis on Channichthyid ice fishes. Collection of specimens will be carried out on the ARSV L.M. Gould and transported back to the aquarium facilities at Palmer Station for experimentation. Animal capture by benthic Otter trawling is restricted to only those areas of bottom known to be relatively flat and muddy, in order to avoid damage to the net. There are a very limited number of locations that meet the criteria, such as ASPA 152—Western Bransfield Strait of Low Island, and ASPA 153—Eastern Dallman Bay off Brabant Island.

Location

ASPA 152—Western Bransfield Strait of Low Island, and ASPA 153—Eastern Dallman Bay off Brabant Island.

Dates

April 1, 2008 to July 1, 2011.

Nadene G. Kennedy,
Permit Officer, Office of Polar Programs.

[FR Doc. E8-14994 Filed 7-1-08; 8:45 am]

BILLING CODE 7555-01-P